DEPARTMENT OF TRANSPORTATION

Federal Highway Administration

[Docket No. FHWA-2025-0008]

Notice of Intent To Prepare an Environmental Impact Statement in Virginia

AGENCY: Federal Highway Administration (FHWA), DOT.

ACTION: Notice.

SUMMARY: The FHWA, on behalf of the State Department of Transportation (Virginia DOT, or VDOT), is issuing this Notice of Intent (NOI) to solicit comment and advise the public, agencies, and stakeholders that an Environmental Impact Statement (EIS) will be prepared to evaluate potential transportation improvements for the Nimmo Parkway Phase VII-B Project (the Project; EISX—XVA-1727438866) in the Sandbridge community and surrounding areas within the City of Virginia Beach. Transportation improvements are being considered to extend Nimmo Parkway or improve existing Sandbridge Road to provide reliable access and connectivity to the Sandbridge community.

DATES: Comments on this NOI and the Additional Project Information Document are to be received by the FHWA at the address below by June 23, 2025.

ADDRESSES: This NOI and the Additional Project Information Document are available in the docket referenced above at http://www.regulations.gov and on the project website located at https://pw.virginiabeach.gov/roads/transportation-projects/nimmo-pkwy. The Additional Project Information Document also will be mailed upon request. Interested parties are invited to submit comments by any of the following methods:

Website: For access to the documents, go to the Federal eRulemaking Portal located at http://www.regulations.gov or the Project website located at https://pw.virginiabeach.gov/roads/transportation-projects/nimmo-pkwy. Follow the online instructions for submitting comments.

Mailing address of hand delivery or courier: Federal Highway Administration, 400 North 8th Street, Suite 750, Richmond, Virginia, 23219.

Email address: Amanda.Heath@dot.gov.

All submissions should include the agency name and the docket number that appears in the heading of this Notice. All comments received will be posted without change to http://www.regulations.gov or the Project website, https://pw.virginiabeach.gov/roads/transportation-projects/nimmo-pkwy, including any personal information provided. A summary of the comments received will be included in the Draft EIS, and all comments received will be included in an appendix to the Draft EIS.

FOR FURTHER INFORMATION CONTACT: FHWA: Amanda Heath, Environmental Protection Specialist, Federal Highway Administration—Virginia Division, 400 North 8th Street, Suite 650, Richmond, VA 23219-4825; email: Amanda.Heath@dot.gov; 804-775-3342. VDOT: Andrew Pike, NEPA Project Manager/Environmental Division, Virginia Department of Transportation, 1401 East Broad Street, Richmond, VA, 23219; email: andrew.pike@vdot.virginia.gov; 804-786-2360. Persons interested in receiving Project information can contact NimmoParkwayEIS@vdot.virginia.gov to be added to the Project mailing list.

SUPPLEMENTARY INFORMATION: The environmental review of transportation improvement alternatives for the Nimmo Parkway Phase VII-B Project area, the Sandbridge community, and surrounding areas within the City of Virginia Beach will be conducted in accordance with the requirements of the National Environmental Policy Act (NEPA) of 1969, as amended (42 U.S.C. 4321, et seq.), 23 U.S.C. 139, FHWA regulations implementing NEPA (23 CFR part 771) and all other applicable Federal, State, and local laws and regulations. The NEPA process is anticipated to be completed by a combined Final EIS and Record of Decision within two years of issuance of this NOI.

The project subject to this notice is:

Project Location: The project limits include the existing east-west Nimmo Parkway/Nimmo Trail right-of-way, which extends approximately 1.9 miles between Albuquerque Drive and Sandbridge Road east of McClannan's Curve, and approximately 3.4 miles of Sandbridge Road between Entrada Drive to just east of McClannan's Curve.

Proposed Project Action

Background. The City of Virginia Beach has studied a direct connection to the Sandbridge community since 1968. An east-west corridor to the community was included in the City's Master Transportation Plan in 1971, the 1979 and 1985 Comprehensive Plans. In 1999, a corridor study completed by the City of Virginia Beach recommended the Nimmo Parkway Corridor, with a bridge over Ashville Bridge Creek, as the preferred alternative in linking General Booth Boulevard/Princess Anne Road with the Sandbridge community. In 2003, planning studies were conducted on the Nimmo Parkway Corridor which determined that, when compared to other corridor improvement projects for the area, the Nimmo Parkway Corridor alternative was preferred. In subsequent years, additional improvements have been made along Nimmo Parkway and Sandbridge Road, with the construction of existing Nimmo Parkway occurring in four phases over a 30-year period.

In May 2022, FHWA approved an Environmental Assessment (EA) for public availability for the EA for this proposed Project included a study area limited to an east-west corridor of approximately 1.85 miles between the end of existing Nimmo Parkway to the west at Albuquerque Drive and Sandbridge Road approximately 0.2 miles past McClannan's Curve, as well as the Sandbridge Road corridor, approximately 3.4 miles, from Entrada Drive to approximately 0.2 miles past McClannan's Curve in the City of Virginia Beach, Virginia.

The Nimmo Parkway Phase VII-B EA evaluated two alternatives, the No Build and Build. The No Build Alternative was retained to serve as a baseline for comparison. The single Build Alternative was a 1.8-mile-long two-lane undivided roadway extending from Albuquerque Drive to Sandbridge Road with an 800-foot proposed bridge over Ashville Bridge Creek.

A public hearing on the EA was held on June 8, 2022. Based on public and agency comments on the EA, in September 2023, FHWA determined that an Environmental Impact Statement (EIS) is required for the Project (23 CFR 771.119(i)). Federal agency comments on the EA stated a need to analyze an additional alternative, specifically improvements to existing Sandbridge Road within the City of Virginia Beach. This alternative had been considered in the EA but was not retained for detailed evaluation, because improvements to existing Sandbridge Road would have higher right-of-way, environmental impacts and costs than the Build Alternative (see Section 2.2.1 of the EA for more details). Agency coordination on the EIS began in April 2024 with an understanding among FHWA, VDOT, U.S. Army Corps of Engineers (USACE), U.S. Environmental Protection Agency, and U.S. Fish and Wildlife Service (USFWS) that the Build Alternative from the EA and improvements to existing Sandbridge Road would be further evaluated as standalone alternatives.

More information regarding the following sections is included in the Additional Project Information Document.

The Preliminary Purpose and Need for the Proposed Agency Action. Based upon the unreliable conditions of Sandbridge Road and the increasing risk of flooding, the preliminary purpose and need of the Nimmo Parkway Phase VII-B proposed Project is to provide reliable access and connectivity to the Sandbridge community. Flooding, roadway deficiencies, and crashes and other obstructions are needs that have been identified that limit reliable access and connectivity.

Sandbridge Road is currently the only public access in and out of the Sandbridge community connecting it to the rest of the City of Virginia Beach. However, the existing conditions of Sandbridge Road cause the roadway to be impassable due to flooding, accidents, and other obstructions.

The preliminary Purpose and Need was developed with agency coordination and public input, as described in this NOI; see the Additional Project Information Document for details on the development of the Purpose and Need. Agencies and the public are invited to comment on the preliminary Purpose and Need. The preliminary Purpose and Need may be revised based on comments received during the comment period on this notice. The Purpose and Need statement and supporting documentation, including data and public input summary, will be available in the Draft EIS. The preliminary Purpose and Need has been discussed with Cooperating and Participating agencies, including information contained in the Additional Project Information Document.

A Preliminary Description of the Proposed Action and Alternatives the Environmental Impact Statement Will Consider. The preliminary proposed action includes transportation improvements in the Sandbridge community and surrounding areas within the City of Virginia Beach. Agencies and the public are invited to comment on the Range of Alternatives for the proposed action. The preliminary Range of Alternatives has been discussed with Cooperating and Participating agencies, including information contained in the Additional Project Information Document. Additional information on the Range of Alternatives is in the Additional Project Information Document. The Range of Alternatives proposed to be considered in the EIS include:

No Build

The No Build Alternative will be retained for detailed study and will serve as a benchmark for comparison with the build alternatives. The No Build Alternative would maintain roadways in the current configuration and includes existing planned improvements. Within the Study Area, Sandbridge Road is currently a two-lane, undivided roadway with no shoulders. Within the Study Area and at its intersection with Albuquerque Drive, existing Nimmo Parkway is a two-lane, undivided roadway with curb-and-gutter and a shared-use path. The No Build Alternative includes existing maintenance and any current fiscally-constrained projects. This alternative would not affect any social, economic, cultural, or natural resources.

Nimmo Parkway

The Nimmo Parkway Alternative is approximately 1.8 miles long and extends from Albuquerque Drive to Sandbridge Road at a point approximately 0.8 miles west of its terminus at the Atlantic Ocean. This alternative would include new alignment to extend existing Nimmo Parkway to the east and connect to Sandbridge Road. This alternative consists of a 2-lane undivided roadway, 12-foot travel lanes, 4-foot on-road bike lane, and a 4-foot-wide paved shoulder in both directions. Four-foot-wide graded shoulders are included along the paved shoulders. A 10-foot-wide shared-use path would be included on one side of the roadway with an 8-foot buffer. The Nimmo Parkway Alternative includes spanning Ashville Bridge Creek via an 800-foot-long bridge.

Improvements to Existing Sandbridge Road

This Build Alternative would improve the existing Sandbridge Road corridor between Entrada Drive to Sandbridge Road at a point approximately 0.8 miles west of its terminus at the Atlantic Ocean. This alternative would consist of the same dimensions as the Nimmo Parkway Alternative. The improvements would also include elevating the roadway to minimize the risk of flooding and improving the horizontal curves on the roadway where necessary.

Concepts Considered but Proposed Not To Be Retained for Consideration in the EIS

Transportation System Management (TSM)/Transportation Demand Management (TDM) Improvements

TSM/TDM improvements are operational improvements that do not necessarily involve physical changes to infrastructure but rather maximize the efficiency of the current transportation system or reduce the demand for travel on the system through the implementation of low-cost improvements. Examples of TSM activities include the addition of turn lanes, optimized signalization at intersections, and electronic Intelligent Transportation Systems. Examples of TDM activities include ride sharing, van and carpooling, installation of park and ride facilities, and encouragement of teleworking.

Stand-alone TSM/TDM improvements are proposed to not be retained because they would not provide reliable access and connectivity to the Sandbridge community.

Transit-Only Improvements

Transit-only improvements considered include additional bus services, such as new buses or lines to supplement the existing Hampton Roads Transit (HRT) system which services the City of Virginia Beach. Per the City of Virginia Beach Master Transportation Plan, an HRT line currently accesses as far as Upton Drive on Nimmo Parkway; there is no existing service to the Sandbridge community. HRT performs market analysis reviews to assess the demand for transit services by evaluating areas with high concentration of potential transit users, commuters, jobs, and non-work destinations, along with travel flow analysis. Per the HRT Fiscal Year 2018-2027 Transit Development Plan, the Project vicinity falls within an area of low potential transit utilization and there are no plans to expand service in this area of the city.

Stand-alone transit-only improvements are proposed to not be retained because they would not provide reliable access and connectivity to the Sandbridge community.

The alternatives to be retained will be finalized after the consideration of public comments received during the comment period on this Notice, and they will be documented in the Draft EIS. The alternatives may be revised based on the consideration of public comments. The alternatives not retained will also be documented in the Draft EIS. See the Additional Project Information Document for a more detailed description of the development of the preliminary Range of Alternatives.

Brief Summary of Expected Effects. The EIS will evaluate the potential social, economic, and environmental effects resulting from the implementation of the build alternatives and the No Build Alternative. FHWA and VDOT will seek input from the public and agencies during the EIS development process regarding the effects of the Project. FHWA and VDOT will evaluate effects to environmental and community resources in accordance with their NEPA guidance and procedures. The following resources are the most sensitive resources in the Project area and will be evaluated closely by FHWA and VDOT:

• Wetlands and other Waters of the U.S.: Both build alternatives would require fill and removal from Waters of the U.S. and impacts to wetlands considered to be jurisdictional which will require a permit from the USACE for the discharge of dredged or fill material into Waters of the U.S., including wetlands.

• Section 4(f): Both build alternatives are located adjacent to lands included in the Back Bay National Wildlife Refuge, which is managed by the USFWS. There is the potential for impacts to the Refuge, which is a Section 4(f) property. Potential impacts to this Section 4(f) property will be analyzed and coordinated in accordance with 23 CFR part 774.

• Wildlife and wildlife habitat: Both build alternatives have the potential to impact wildlife and wildlife habitat. Such impacts would be assessed to consider footprint impacts, the effects of noise and visual disturbance from construction and operations, potential wildlife-vehicle collisions, and habitat connectivity. This would also be included in the assessment of effects on the function and purpose of the Back Bay National Wildlife Refuge as part of the Section 4(f) analysis.

• Section 7: Both build alternatives would include tree removal and potential impacts to the federally-endangered northern long-eared bat and the proposed endangered tricolored bat.

• Flood plains: Portions of both build alternatives are within the 100-year flood plain, or base flood plain, so there is the potential for encroachments on flood plains.

• Community impacts: The improvements to existing Sandbridge Road alternative have the potential for right-of-way impacts and relocations. The Nimmo Parkway alternative is within right-of-way owned by the Project sponsor, the City of Virginia Beach, so right-of-way acquisition and relocations are not anticipated.

• Safety: Roadway safety would also be considered in the analysis of alternatives, including the potential for wildlife-vehicle collisions.

The EIS will evaluate the expected impacts and benefits to the known resources above, as well as the following resources: Land use and right-of-way, farmland, social and community resources, economics, air quality, transportation, traffic noise, ecosystem resources (wildlife and threatened and endangered species), historic and cultural resources, hazardous waste sites, and visual resources. The level of review of the identified resources for the EIS will be commensurate with the anticipated effects to each resource from the proposed Project and will be governed by the statutory or regulatory requirements protecting those resources.

The analyses and evaluations conducted for the EIS will identify the potential for effects; avoidance measures; whether the anticipated effects would be adverse; and the appropriate environmental mitigation measures. Additional information on the expected impacts is provided in the Additional Project Information Document available for review in the docket established for this proposed Project and on the project website as noted in the ADDRESSES section.

Agencies, stakeholders, and the public are invited to comment on the expected impacts. The environmental impact analysis will not begin until the Purpose and Need, Range of Alternatives, and impact categories are finalized based on public comment on this notice. The identification of impacts may be revised due to the consideration of public comments. See the Additional Project Information Document for a more detailed description of the Summary of Expected Impacts. The studies to identify the impacts, as well as the analyses of impacts from the retained alternatives, will be presented in the Draft EIS.

Anticipated Permits and Other Authorizations. A Clean Water Act Section 404 permit decision from the USACE is anticipated on August 31, 2027. Other likely Federal and State authorizations include the Virginia Marine Resources Commission (VRMC) Subaqueous Bottoms and Tidal Wetlands Permit on March 31, 2027, a Virginia Department of Environmental Quality (VDEQ) Individual Permit on April 30, 2027, and a Coastal Zone Consistency Determination on June 1, 2027. Per U.S.C. 139(d)(10), the aforementioned permits and authorizations should be completed by no later than 90 days after the issuance of the Record of Decision. The Project sponsor, the City of Virginia Beach, has committed to obtaining permits within 90 days of the issuance of the Record of Decision.

Section 7 consultation under the Endangered Species Act is expected to be concluded on January 1, 2026, and Section 106 consultation under the National Historic Preservation Act is anticipated to be concluded on June 1, 2026. See the Additional Project Information Document for more detail on the anticipated permits and other authorizations.

A Schedule for the Decision-Making Process. The Project schedule follows the requirements of the environmental review process under 23 U.S.C. 139, which requires that environmental reviews for major projects occur within agency average of 2 years (from the date of publication of the NOI) to the date of issuance of the ROD. Cooperating and Participating Agencies have reviewed the schedule and agencies with permitting or other authorizations, including USACE, VMRC, VDEQ, USFWS, and the National Oceanic and Atmospheric Agency, have confirmed the schedule is appropriate. Per 23 U.S.C. 139(d)(10), permits and authorizations should be completed by no later than 90 days after the issuance of the Record of Decision. The Project sponsor, the City of Virginia Beach, has committed to obtaining permits within 90 days of the issuance of the Record of Decision. Following the issuance of this notice, FHWA and VDOT will coordinate with the Participating, Cooperating, and Cooperating/Concurring Agencies to develop study documentation and the Draft EIS.

• The Draft EIS is anticipated to be issued in September 2025.

• The combined Final EIS and Record of Decision is anticipated in May 2027.

• A Section 404 permit decision from the USACE is expected in August 2027.

See the Additional Project Information Document for additional schedule details.

Description of the Public Scoping Process, Including Scoping Meetings

Outreach Conducted During Development of the EA

In September 2018, the City of Virginia Beach held a Citizen Information Meeting (CIM) to seek feedback from the public on the Project. More than 100 members of the public attended the CIM, and more than 600 people completed a project survey online or via hard copy at the CIM.

In Spring 2019, the City of Virginia Beach held a scoping meeting and send scoping letters to Federal and State agencies to request relevant information and identify any key issues regarding potential environmental impacts. Six agencies provided comments.

In May 2022, the City of Virginia Beach held a public hearing to present the preliminary Project design and the findings of the EA. More than 300 public comments were received on the EA.

Agency Scoping

In March 2024, as part of initial NEPA scoping to determine the class of action, VDOT and FHWA identified agencies who would likely serve as Cooperating and Participating Agencies for the EIS. These agencies are largely the same entities involved in the preparation of the Nimmo Parkway Phase VII-B EA.

Beginning in April 2024, VDOT and FHWA began to brief the likely Cooperating and Participating Agencies on initial NEPA scoping activities to support the development of the EIS.

Agency coordination up to this point has been conducted primarily through VDOT's monthly NEPA Agency Coordination Meeting. All likely Cooperating and Participating Agencies are invited to attend the monthly agency coordination meeting. A brief summary of agency coordination is included below.

April 2024

• Introduction of the Project, including Project history

• Discussion of resource methodologies and preliminary purpose and need and range of alternatives

May 2024

• Discussion of agency comments on resource methodologies

• Discussion of preliminary purpose and need

June 2024

• Discussion of preliminary purpose and need and range of alternatives

July 2024

• Discussion of preliminary range of alternatives and future permitting activities

August 2024

• Discussion of preliminary range of alternatives

September 2024

• Preliminary concurrence from agencies on preliminary purpose and need and discussion of preliminary range of alternatives

October 2024

• Discussion of preliminary range of alternatives

November 2024

• Preliminary concurrence from agencies on preliminary range of alternatives

In accordance with 23 U.S.C. 139, an Agency Coordination Plan is being developed and will be finalized within 90 days of the issuance of this NOI; the Agency Coordination Plan establishes a framework for coordination among the Federal, State, local agencies participating and the public in the development of the EIS.

Public Review

A 30-day comment period is being held in association with this NOI. Agencies and the public are invited to comment on the Environmental Analysis Methodologies, Purpose and Need, and Range of Alternatives for the proposed action. Comments may be submitted according to the instructions in the ADDRESSES section of this Notice. Interested persons can sign up to receive email announcements, notifications, and newsletters on the above Project website. The scoping process for this EIS will conclude at the end of the 30-day comment period after the publication of the NOI. During the 30-day comment period, VDOT will present information in the NOI and receive public comments. The public will also be able to submit comments by completing an online survey, email, telephone, and mail. VDOT will post public materials on the EIS website, including a brochure and narrated video presentation, in addition to contacting by mail local property owners.

Public hearings will be held during the development of the EIS, as described below. Generally, the locations, dates, and times for each public hearing will be publicized through the EIS website https://pw.virginiabeach.gov/roads/transportation-projects/nimmo-pkwy and in newspapers with local and regional circulation, including The Virginian-Pilot. Materials will be available at the meetings in English and Spanish and oral and written comments will be solicited.

Public Hearing on a Recommended Preferred Alternative

A public hearing on VDOT's Recommended Preferred Alternative (RPA) is required by the Code of Virginia to inform the Virginia Commonwealth Transportation Board (CTB), which is authorized by the Code of Virginia to make location decisions for highway projects, including as part of NEPA studies.

Several media outlets will be used to advertise the public hearing on the RPA, including but not limited to newspaper advertisements, postcards sent to each property within the Study Area, a social media campaign, email, and continued updates to the project website.

Public Hearing on the Draft EIS

Notice of availability of the Draft EIS for public and agency review will be published in the Federal Register and through other methods which will identify where interested parties can go to review a copy of the Draft EIS. The public hearing will be conducted by VDOT and announced a minimum of 30 days in advance. VDOT will provide information for the public hearing, including the location, date, and time for the meeting through a variety of means including the EIS website https://pw.virginiabeach.gov/roads/transportation-projects/nimmo-pkwy and by newspaper advertisement.

Request for Comment on Alternatives and Effects, as well as on Relevant Information, Studies, or Analyses with Respect to the Proposed Action. To ensure that a full range of issues related to the Project are addressed in the EIS and all potential issues are identified, FHWA and VDOT invite comments and suggestions from all interested parties. FHWA and VDOT request comments and suggestions on the purpose and need, potential alternatives and impacts, and the identification of any relevant information, studies, or analyses of any kind concerning impacts affecting the quality of the human and natural environment. Any information presented herein, including the preliminary purpose and need, preliminary range of alternatives and identification of impacts may be revised after consideration of the comments. The purpose of this request is to bring relevant comments, information, and analyses to FHWA's and VDOT's attention, as early in the process as possible, to enable the agencies to make maximum use of this information in decision making. Comments may be submitted according to the instructions in the ADDRESSES section of this Notice.

Identification of Cooperating and Participating Agencies, and Information That Such Agencies Require in the Notice. FHWA and VDOT have invited the following Federal, State, regional, and local agencies to participate in the development of the EIS. Beginning in April 2024, VDOT has convened Cooperating and Participating Agencies at a monthly coordination meeting to discuss the development of the EIS, including the preliminary Purpose and Need, preliminary Range of Alternatives, draft NOI and Additional Project Information Document. At the August 14, 2024, VDOT NEPA Programs Agency Coordination Meeting, VDOT described the new NOI requirement included in 40 CFR 1502.4(e)(9) and asked Cooperating and Participating Agencies for input. No agencies have requested information to be included in the NOI.

• Cooperating Agencies: National Oceanic and Atmospheric Administration, U.S. Army Corps of Engineers, U.S. Environmental Protection Agency, U.S. Fish and Wildlife Service, and U.S. Navy.

• Participating Agencies: Advisory Council on Historic Preservation, City of Virginia Beach, Federal Emergency Management Agency, Federal Rail Administration, Federal Transit Administration, Hampton Roads Planning District Commission, Hampton Roads Transportation Planning Organization, National Park Service, National Resources Conservation Service, U.S Department of the Interior, U.S. Department of Housing and Urban Development, Virginia Department of Agriculture and Consumer Services, Virginia Department of Conservation and Recreation, Virginia Department of Emergency Management, Virginia Department of Environmental Quality, Virginia Department of Forestry, Virginia Department of Health, Virginia Department of Housing and Community Development, Virginia Department of Historic Resources, Virginia Department of Rail and Public Transportation, Virginia Department of Wildlife Resources, Virginia Energy, Virginia Marine Resources Commission, Virginia State Police

Unique Identification Number. All environmental documents prepared for the proposed action will reference the following unique identification number: EISX—XVA-1727438866.

(Catalog of Federal Domestic Assistance Program Number 20.205, Highway Planning and Construction. The regulations implementing Executive Order 12372 regarding intergovernmental consultation on Federal programs and activities apply to this program.)

Edward Ofori-Abebresse,
Division Administrator, Federal Highway Administration.

[FR Doc. 2025-09288 Filed 5-22-25; 8:45 am]

BILLING CODE 4910-RY-P